DEPARTMENT OF AGRICULTURE

Submission for OMB Review; Comment Request

October 25, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 28, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Advocacy and Outreach

Title: USDA Minority Farm Register.

OMB Control Number: 0508-0005.

Summary of Collection: The Minority Farm Register is a voluntary register of minority farm and ranch operators, landowners, tenants, and others with an interest in farming or agriculture. The Register will promote equity among minority farmers. The collected information is a tool to promote equal access to USDA Farm programs and services for minority farmers and ranchers with agricultural interests. The authority for the collection of this information can be found in Section 10707 of the Farm Security and Rural Investment Act of 2002 (Pub. L. 107-171) (7 U.S.C. 2279(a) (4) (b)).

Need and Use of the Information: The Office of Advocacy and Outreach (OAO) will collect the name, address, phone number, farm location, race, ethnicity, gender and signature on the Minority Farm Register permission form, AD-2035. The OAO uses the collected information to better inform minority farmers about U.S. Department of Agriculture programs and services.

Description of Respondents: Individuals or households.

Number of Respondents: 5,000.

Frequency of Responses: Reporting: Other (once).

Total Burden Hours: 4,667.

Ruth Brown,
Departmental Information Collection Clearance Officer.

[FR Doc. 2016-26076 Filed 10-27-16; 8:45 am]

BILLING CODE 3412-88-P